NATIONAL AERONAUTICS AND SPACE ADMINISTRATION

[Notice: 24-022]

NASA Advisory Council; Human Exploration and Operations Committee

AGENCY: National Aeronautics and Space Administration.

ACTION: Notice of meeting.

SUMMARY: In accordance with the Federal Advisory Committee Act, the National Aeronautics and Space Administration (NASA) announces a meeting of the Human Exploration and Operations Committee of the NASA Advisory Council (NAC). This Committee reports to the NAC.

DATES: Thursday, April 25, 2024, 9:30 a.m. to 3:30 p.m.; and Friday, April 26, 2024, 9:30 a.m. to 3:30 p.m. All times are Eastern Time.

ADDRESSES: Public attendance will be virtual only. See dial-in and Webex information below under Supplementary Information.

FOR FURTHER INFORMATION CONTACT: Dr. Bette Siegel, Designated Federal Officer, Human Exploration and Operations Committee, NASA Headquarters, Washington, DC 20546, via email at bette.siegel@nasa.gov or 202-358-2245.

SUPPLEMENTARY INFORMATION: As noted above, this meeting will be open to the public via Webex and telephonically. Webex connectivity information is provided below. For audio, when you join the Webex event, you may use your computer or provide your phone number to receive a call back, otherwise, call the U.S. toll conference number listed.

On April 25, the event address for attendees is: https://nasaenterprise.webex.com/nasaenterprise/j.php?MTID=m43dff5f3fd4100f1317ce177f238ef5d.

The event number is 2830 295 8868 and the event password is swPePuD@359. If needed, the U.S. toll conference number is 1-929-251-9612 or 1-415-527-5035 and access code is 2830 295 8868 and password is 79737831.

The agenda for the meeting includes the following topics:

—Space Operations Mission Directorate Status

—Budget

—International Space Station Update

—Commercial Crew

—Commercial LEO Development/Commercial Space Stations

On April 26, the event address for attendees is: https://nasaenterprise.webex.com/nasaenterprise/j.php?MTID=m43dff5f3fd4100f1317ce177f238ef5d.

The event number: 2830 295 8868 and the event password: swPePuD@359. If needed, the U.S. toll conference number is 1-929-251-9612 or 1-415-527-5035 and access code is 2830 295 8868 and password is 79737831.

The agenda for the meeting includes the following topics:

—Exploration Systems Development Mission Directorate Status

—Budget

—Moon to Mars

—Strategy and Architecture

It is imperative that these meeting be held on these days to accommodate the scheduling priorities of the key participants.

Carol J. Hamilton,
Acting Advisory Committee Management Officer, National Aeronautics and Space Administration.

[FR Doc. 2024-06301 Filed 3-25-24; 8:45 am]

BILLING CODE 7510-13-P